DEPARTMENT OF COMMERCE

National Oceanic and Atmospheric Administration

Proposed Information Collection; Comment Request; Survey of Uses of NOAA Ecological Forecasting Products in Western Lake Erie, the Gulf of Mexico, and Chesapeake Bay

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 26, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Lonnie Gonsalves, NOAA National Ocean Service, National Centers for Coastal Ocean Science, 1305 East West Hwy., Rm 8325, Silver Spring, MD 20910 (240) 533-0303, and lonnie.gonsalves@noaa.gov.

SUPPLEMENTARY INFORMATION:

I. Abstract

This request is for a new information collection.

In recent years, harmful algal blooms (HABs) and waterborne pathogens such as Vibrio vulnificus have caused major health, ecological, and economic concerns. HABs and other waterborne pathogens can lead to a number of impacts including impaired drinking water, reduced recreational opportunities, and human health impacts from either ingesting affected fish/water or contact with the bloom. To better serve the public and its stakeholders, NOAA has developed forecasts of HABs extent and severity in the western Lake Erie and in the Gulf of Mexico and is finalizing development of a forecast for Vibrio vulnificus in Chesapeake Bay. These forecast products are designed to provide stakeholders and the public with information that can be used to make better decisions that would mitigate the impacts of HABs and waterborne pathogens.

This request is for a set of related surveys to collect information on how stakeholders use NOAA's ecological forecast products in western Lake Erie, the Gulf of Mexico (the western shore of Florida and the Texas coastline), and Chesapeake Bay. The surveys are designed to collect similar information from the public and other stakeholders across the three geographic regions covered by the forecast products. The information from these surveys will assist NOAA in understanding how stakeholders, including the public, would use the forecast products. This information will help NOAA further improve upon research, development, and delivery of forecast products nation-wide.

For western Lake Erie and the Gulf of Mexico, NOAA plans two related surveys in each region. First, NOAA will collect information from the public on how using the information in the forecast products would affect decisions related to fishing, swimming and boating. A companion survey would ask charter boat operators on Lake Erie how information in the forecast would affect their decisions regarding fishing operations. These activities (fishing, swimming and boating) reflect the types of activities likely to be affected by HABs in each area. Drinking water is also at risk in Lake Erie due to HABs, but NOAA has information on how drinking water facilities respond to HABS and is also discussing use of the forecast products with a small (fewer than 10) number of drinking water facilities.

For Chesapeake Bay, NOAA would implement one survey focused on recreational swimmers. The primary risk posed by Vibrio vulnificus is through contact with the bacterium; thus, NOAA determined that focusing on recreational swimmers use of the forecast product would be the most productive approach.

II. Method of Collection

NOAA plans to collect these data using an online data collection firm to select public samples and administer the survey via the internet. For the charter boat surveys, NOAA will work with charter boat associations in the Lake Erie and Gulf of Mexico areas to distribute the survey link to their memberships. Data collection will focus on a small sample of drinking water and natural resource managers, public health officials, charter boat operators, and the public. NOAA is not concerned with collecting statistically representative data at this time as the limited sampling will adequately address how the public may use the data from the aforementioned HAB and pathogen forecasts.

III. Data

OMB Control Number: 0648-xxxx.

Form Number(s): None.

Type of Review: Regular submission (new information collection).

Affected Public: Individuals or households; business or other for-profit organizations.

Estimated Number of Respondents: 600.

Estimated Time per Response: 15 minutes.

Estimated Total Annual Burden Hours: 150 hours.

Estimated Total Annual Cost to Public: $0 in capital and reporting/recordkeeping costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 20, 2018.
Sarah Brabson,
NOAA PRA Clearance Officer.

[FR Doc. 2018-20850 Filed 9-25-18; 8:45 am]

BILLING CODE 3510-JE-P